DEPARTMENT OF COMMERCE

International Trade Administration

[A-570-848]

Notice of Extension of Time Limit for Preliminary Results of Administrative Antidumping Review: Freshwater Crawfish Tail Meat From the People's Republic of China

AGENCY: Import Administration, International Trade Administration, Department of Commerce.

EFFECTIVE DATE: May 23, 2000.

FOR FURTHER INFORMATION CONTACT: Thomas Gilgunn or Maureen Flannery, AD/CVD Enforcement, Import Administration, International Trade Administration, U.S. Department of Commerce, 14th Street and Constitution Avenue, N.W., Washington, D.C. 20230; telephone: (202) 482-0648 or (202) 482-3020, respectively.

The Applicable Statute

Unless otherwise indicated, all citations to the statute are references to the provisions effective January 1, 1995, the effective date of the amendments made to the Tariff Act of 1930 (the Act) by the Uruguay Round Agreements Act. In addition, unless otherwise indicated, all citations to the Department's regulations are to the current regulations, codified at 19 CFR part 351 (1999).

Background

In accordance with 19 CFR 351.213(b)(2), the Department received requests that we conduct an administrative review of the sales of the following: Huaiyin Foreign Trade Corp. (30); Yancheng Baolong Biochemical Products Co., Ltd.; Qingdao Rirong Foodstuff Co., Ltd.; Lianyungang Haiwang Aquatic Products Co., Ltd.; Yancheng Haiteng Aquatic Products and Foods Co., Ltd.; and Yancheng Foreign Trade Corp. Maritime Trading, a U.S. importer, requested that we conduct an administrative review of Huaiyin Foreign Trade Corp. a.k.a. Huaiyin Foreign Trade Corp. (5). Petitioner in the proceeding, the Crawfish Processors Alliance, also requested an administrative review of the following: China Everbright Trading Company; Binzhou Prefecture Foodstuffs Import & Export Corp.; Huaiyin Foreign Trade Corporation; Huaiyin Foreign Trade Corporation (5); Yancheng Foreign Trade Corporation; Jiangsu Cereals, Oils & Foodstuffs Import & Export Corp.; Yancheng Baolong Aquatic Foods Co.; Huaiyin Ningtai Fisheries Co., Ltd.; Nantong Delu Aquatic Food Co., Ltd.; Ningbo Nanlian Frozen Foods Company, Ltd.; Qingdao Rirong Foodstuff Co.; Lianyungang Haiwang Aquatic Products Company Ltd.; Yancheng Baolong Biochemical Products Co., Ltd.; Zhenfeng Foodstuff Co.; Weishan Hongfa Lake Foodstuff Co., Ltd.; Ever Concord; Hua Yin Foreign Trading; Huaiyin Foreign Trading; Lianyungang Hailong Aquatic Product; Qiafco; Seatrade International; Weishan Jinmuan Foodstuff; Welly Shipping, aka Kenwa Shipping; Yancheng Foreign Trading; Jiangsu Baolong Group; Asia-Europe; Jiangsu Aquatic Products Freezing Plant; and Yupeng Fishery. We published a notice of initiation of this antidumping duty administrative review on November 4, 1999 (64 FR 60161).

On February 1, 2000, the Crawfish Processor Alliance, petitioner in this case, withdrew their request for review for the following companies: China Everbright Trading Company; Binzhou Prefecture Foodstuffs Import & Export Corp.; Jiangsu Cereals, Oils & Foodstuffs Import & Export Corp.; Yancheng Baolong Aquatic Foods Co.; Huaiyin Ningtai Fisheries Co., Ltd.; Nantong Delu Aquatic Food Co., Ltd.; Ever Concord; Lianyungang Hailong Aquatic Product; Qiafco; Seatrade International; Welly Shipping, a.k.a. Kenwa Shipping; and Yancheng Foreign Trading.

Extension of Time Limits for Preliminary Results

Because of the complexity and timing of certain issues in this case, it is not practicable to complete this review within the time limit mandated by section 751(a)(3)(A) of the Act. In the Department's Freshwater Crawfish Tail Meat From The People's Republic of China: Final Results of Administrative Antidumping Duty and New Shipper Reviews, and Final Rescission of New Shipper Review, 65 FR 20948 (April 19, 2000) covering the 1997-98 review period (final results), the Department addressed a number of extraordinarily complicated issues, including the relationship between certain exporters. Based on the final results, the Department has required certain exporters to submit a consolidated response. The consolidate response is due on June 12, 2000. Therefore, it is not practicable to complete this review within the time limits mandated by section 751(a)(3)(A) of the Act and section 351. 213(h)(2) of the Department's regulations. See the Memorandum from Edward C. Yang to Troy H. Cribb, Extension of Time Limits for the Preliminary Results of Administrative Review of Freshwater Crawfish Tail Meat from the People's Republic of China, dated May 11, 2000.

Therefore, in accordance with these sections, the Department is extending the time limits for the preliminary results to September 29, 2000.

Dated: May 11, 2000.
Joseph A. Spetrini,
Deputy Assistant Secretary for AD/CVD Enforcement III.

[FR Doc. 00-12975 Filed 5-22-00; 8:45 am]

BILLING CODE 3510-DS-P